INTERNATIONAL TRADE COMMISSION

[Investigation No. CAFTA-DR-103-028]

Probable Economic Effects of Certain Modifications to the CAFTA-DR Rules of Origin

AGENCY: United States International Trade Commission.

ACTION: Institution of investigation and notice of opportunity to provide written comments.

SUMMARY: Following receipt on November 24, 2015, of a request from the U.S. Trade Representative (USTR), under authority delegated by the President and pursuant to section 104 of the Dominican Republic-Central America-United States Free Trade Agreement Implementation Act (19 U.S.C. 4014), the Commission instituted investigation No. CAFTA-DR-103-028, Probable Economic Effects of Certain Modifications to the CAFTA-DR Rules of Origin.

DATES: January 25, 2016: Deadline for filing written submissions. May 24, 2016: Transmittal of Commission report to USTR.

ADDRESSES: All Commission offices, including the Commission's hearing rooms, are located in the United States International Trade Commission Building, 500 E Street SW., Washington, DC. All written submissions should be addressed to the Secretary, United States International Trade Commission, 500 E Street SW., Washington, DC 20436. The public record for this investigation may be viewed on the Commission's electronic docket (EDIS) at http://www.usitc.gov/secretary/edis.htm.

FOR FURTHER INFORMATION CONTACT: Project leader Philip Stone (202-205-3424 or philip.stone@usitc.gov) or deputy project leader Brian Allen (202-205-3034 or brian.allen@usitc.gov) for information specific to this investigation. For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background: In his request letter (received November 24, 2015), the USTR stated that U.S. negotiators have recently reached agreement in principle with representatives of the CAFTA-DR governments on certain modifications to the rules of origin in Annex 4.1 of the Dominican Republic-Central America-United States Free Trade Agreement. The USTR noted that section 203(o)(3)(A) of the Dominican Republic-Central America-United States Free Trade Agreement Implementation Act authorizes the President, subject to the consultation and layover requirements of section 104 of the Act, to proclaim such modifications to rules of origin provisions included in Annex 4.1 of the Agreement in the Harmonized Tariff Schedule of the United States (HTS), other than with respect to goods of HTS chapters 50 through 63. He noted that one of the requirements set out in section 104 is that the President obtain advice regarding the proposed action from the U.S. International Trade Commission. In the request letter, the USTR asked that the Commission provide advice on the probable economic effects of the proposed modifications in rules of origin on U.S. trade under the Agreement, on total U.S. trade, and on domestic producers of the affected articles. The products identified in the proposal are fishing lures, gaming machines, polyvinyl chloride, and certain products of the chemical or allied industries. The request letter and the complete list of proposed modifications are available on the Commission's Web site at http://www.usitc.gov/research_and_analysis/what_we_are_working_on.htm. As requested, the Commission will provide its advice to USTR by May 24, 2016.

Written Submissions: No public hearing is planned. However, interested parties are invited to file written submissions concerning this investigation. All written submissions should be addressed to the Secretary, and all such submissions should be received not later than 5:15 p.m., January 25, 2016. All written submissions must conform with the provisions of section 201.8 of the Commission's Rules of Practice and Procedure (19 CFR 201.8). Section 201.8 and the Commission's Handbook on Filing Procedures require that interested parties file documents electronically on or before the filing deadline and submit eight (8) true paper copies by 12:00 p.m. eastern time on the next business day. In the event that confidential treatment of a document is requested, interested parties must file, at the same time as the eight paper copies, at least four (4) additional true paper copies in which the confidential information must be deleted (see the following paragraph for further information regarding confidential business information). Persons with questions regarding electronic filing should contact the Secretary (202-205-2000).

Any submissions that contain confidential business information must also conform with the requirements of section 201.6 of the Commission's Rules of Practice and Procedure (19 CFR 201.6). Section 201.6 of the rules requires that the cover of the document and the individual pages be clearly marked as to whether they are the “confidential” or “non-confidential” version, and that the confidential business information be clearly identified by means of brackets. All written submissions, except for confidential business information, will be made available for inspection by interested parties. The Commission may include some or all of the confidential business information submitted in the course of this investigation in the report it sends to the USTR and the President. As requested, the Commission will issue a public version of its report, with any confidential business information deleted, shortly after it transmits its report.

Summaries of Written Submissions: The Commission intends to publish summaries of the positions of interested persons in an appendix to its report. Persons wishing to have a summary of their position included in the appendix should include a summary with their written submission. The summary may not exceed 500 words, should be in MSWord format or a format that can be easily converted to MSWord, and should not include any confidential business information. The summary will be published as provided if it meets these requirements and is germane to the subject matter of the investigation. In the appendix the Commission will identify the name of the organization furnishing the summary, and will include a link to the Commission's Electronic Document Information System (EDIS) where the full written submission can be found.

By order of the Commission.
Dated: December 14, 2015.
Lisa R. Barton,
Secretary to the Commission.

[FR Doc. 2015-31734 Filed 12-16-15; 8:45 am]

BILLING CODE 7020-02-P